FEDERAL COMMUNICATIONS COMMISSION

Notice of Public Information Collection(s) Being Reviewed by the Federal Communications Commission, Comments Requested

June 30, 2009.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 11, 2009. If you anticipate that you will be submitting PRA comments, but find it difficult to do so within the period of time allowed by this notice, you should advise the FCC contact listed below as soon as possible.

ADDRESSES: Direct all PRA comments to Nicholas A. Fraser, Office of Management and Budget, via fax at 202-395-5167 or via Internet at Nicholas_A._Fraser@omb.eop.gov and to Judith-B.Herman@fcc.gov, Federal Communications Commission, or an e-mail to PRA@fcc.gov.

FOR FURTHER INFORMATION CONTACT: For additional information, contact Judith B. Herman at 202-418-0214 or via the Internet at Judith-B.Herman@fcc.gov.

SUPPLEMENTARY INFORMATION: OMB Control Number: 3060-1031.

Title: Commission's Initiative to Implement Enhanced 911 (E911) Emergency Services.

Form No.: N/A.

Type of Review: Extension of a currently approved collection.

Respondents: Business or other for-profit; not-for-profit institutions; Federal Government; and State, local or tribal government.

Number of Respondents: 858 respondents; 1,992 responses.

Estimated Time per Response: 2-4 hours per requirement.

Frequency of Response: On occasion and one time reporting requirement, recordkeeping requirement and third party disclosure requirement.

Obligation to Respond: Voluntary. Statutory authority for this information collection is contained in 47 U.S.C. 154, 160, 201, 251-254, 303 and 332 unless otherwise noted.

Total Annual Burden: 10,168 hours.

Total Annual Cost: N/A.

Privacy Act Impact Assessment: N/A.

Needs and Uses: The Commission will submit this information collection to the Office of Management and Budget (OMB) after this 60-day comment period in order to obtain the full three-year clearance from them. The Commission is requesting an extension (no change in the reporting, recordkeeping and/or third party certification and notification requirements) of this information collection. There is a change in the estimated respondents/responses and the annual burden hours. The Commission is reporting 834 more responses. Therefore, the total annual burden hour estimate has increased by 3,592 hours. These adjusted increases reflect more accurate estimates.

Pursuant to the Commission's E911 rules, a wireless carrier must provide E911 service to a particular Public Safety Answering Point (PSAP) within six months if that PSAP makes a request for the service and is capable of receiving and utilizing the information provided. In the City of Richardson Order, the Commission adopted rules clarifying what constitutes a valid PSAP request so as to trigger a wireless carrier's obligation to provide service to a PSAP within six months.

In November 2002, the Commission released the City of Richardson Order on Reconsideration, modifying its E911 rules to provide additional clarification on the issue of PSAP readiness. The Commission's actions were intended to facilitate the E911 implementation process by encouraging parties to communicate with each other early in the implementation process, and to maintain a constructive, on-going dialog throughout the implementation process.

The Order contained three information collection requirements subject to the Paperwork Reduction Act for which the Commission seeks continued OMB approval:

(a) The Commission established a procedure whereby wireless carriers that have completed all necessary steps toward E911 implementation that are not dependent on PSAP readiness may have their compliance obligation temporarily tolled, if the PSAP is not ready to receive the information at the end of the six-month period, and the carrier files a certification to that effect with the Commission.

(b) As part of the certification and notification process (third party disclosure requirements), a carrier must notify the PSAP of its intent to file a certification with the Commission that the PSAP is not ready to receive and use the information. The PSAP is permitted to send a response to the carriers' notification to affirm that it is not ready to receive E911 information or to challenge the carrier's characterization of its state of readiness. Carriers are required to include any response they receive from the PSAP to their certification filing to the Commission.

(c) The Commission clarified that nothing in its rules prevented wireless carriers and PSAPs from mutually agreeing to an E911 deployment schedule at variance with the schedule contained in the Commission's rules. Carriers and PSAPs may choose to participate in the certification and private negotiation process. The Commission does not require participation.

The Commission will use the certification filings from wireless carriers to determine each carrier's compliance with its E911 obligations. The Commission will review carrier certifications to ensure that carriers have sufficiently explained the basis for their conclusion that a particular PSAP will not be ready and have identified all of the specific steps the PSAP has taken to provide the requested service. The Commission retains the discretion to investigate a carrier's certification and take enforcement action if appropriate.

The requirement that carriers notify affected PSAPs in writing, of their challenge, including a copy of the certification, will afford PSAPs an opportunity to review proposed certifications and present their respective views about their readiness to receive and use E911 information to the carrier and the Commission. The Commission will review the PSAP responses to determine whether there are any PSAP objections to particular certification filings. The clarification regarding mutually agreed upon alternative implementation schedules necessarily entails a third-party contact information burden. However, the affected entities will receive the benefit of being able to adopt an E911 implementation schedule best suited to the specific circumstances.

Federal Communications Commission.
Marlene H. Dortch,
Secretary.

[FR Doc. E9-16484 Filed 7-10-09; 8:45 am]

BILLING CODE 6712-01-P